DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 15, 2009.

Interested persons are invited to submit written comments regarding the subject matter of the investigations to the Director, Division of Trade Adjustment Assistance, at the address shown below, not later than October 15, 2009.

The petitions filed in this case are available for inspection at the Division of Trade Adjustment Assistance, Employment and Training Administration, U.S. Department of Labor, Room N-5428, 200 Constitution Avenue, NW., Washington, DC 20210.

Signed at Washington, DC, this 10th day of September 2009.
Richard Church,
Certifying Officer, Division of Trade Adjustment Assistance.

Appendix
[TAA petitions instituted between 8/31/09 and 9/4/09]
TA-W | Subject firm (petitioners) | Location | Date of institution | Date of petition
72163 | Direct Brands, Inc. (Wkrs) | Indianapolis, IN | 08/31/09 | 08/28/09
72164 | L&W Murfreesboro, LLC (Comp) | Murfreesboro, TN | 08/31/09 | 08/28/09
72165 | Norbord Industries, Inc. (Comp) | Deposit, NY | 08/31/09 | 08/28/09
72166 | Gera Tool and Die Inc. (Wkrs) | St. Marys, PA | 08/31/09 | 08/28/09
72167 | Shorewood Packaging (Comp) | Newport News, VA | 08/31/09 | 08/25/09
72168 | Dimensions, Inc (Comp) | Reading, PA | 08/31/09 | 08/21/09
72169 | NuTec Tooling Systems, Inc. (Comp) | Meadville, PA | 08/31/09 | 08/28/09
72170 | Bombardier Learjet (Union) | Wichita, KS | 08/31/09 | 08/26/09
72171 | Hawker Beechcraft—Wichita & Salina, KS (Union) | Wichita, KS | 08/31/09 | 08/27/09
72172 | Cessna Aircraft Company (Union) | Wichita, KS | 08/31/09 | 08/26/09
72173 | Reliant Machine, Inc. (Wkrs) | Green Bay, WI | 08/31/09 | 08/27/09
72174 | Johnson Controls, Inc. (Comp) | Roanoke, VA | 08/31/09 | 08/28/09
72175 | Gerdau Ameristeel (Wkrs) | Sand Springs, OK | 08/31/09 | 08/28/09
72176 | Boeing Integrated Defense Systems, Inc. (Union) | Wichita, KS | 08/31/09 | 08/25/09
72177 | Heus Mfg. LLC and EHR Enterprises (53042) | New Holstein, NE | 08/31/09 | 08/19/09
72178 | Mullen Industries (Wkrs) | St. Clair, MO | 09/01/09 | 08/31/09
72179 | Licking County Department of Job & Family Service (Comp) | Newark, OH | 09/01/09 | 08/25/09
72180 | Philips Medical Systems (Wkrs) | Reedsville, PA | 09/01/09 | 09/01/09
72181 | National Payment Network (Wkrs) | El Segundo, CA | 09/01/09 | 08/21/09
72182 | Worthington Steel-Monroe (Wkrs) | Monroe, OH | 09/01/09 | 08/15/09
72183 | Chicago & Midwest Regional Joint Board (Union) | Chicago, IL | 09/01/09 | 08/31/09
72184 | ABB Inc. (Comp) | Lake Mary, FL | 09/01/09 | 08/31/09
72185 | GHS Corporation (State) | Battle Creek, MI | 09/01/09 | 08/31/09
72186 | Lebanon Apparel Corp. (Wkrs) | Lebanon, VA | 09/01/09 | 08/31/09
72187 | Accuride Cuyahoga Falls (Wkrs) | Evansville, IN | 09/01/09 | 08/31/09
72188 | Dolphin Inc. (Wkrs) | Phoenix, AZ | 09/01/09 | 08/25/09
72189 | D.M.E. (Wkrs) | Youngwood, PA | 09/01/09 | 08/14/09
72190 | Electronic Data Systems (State) | Plano, TX | 09/02/09 | 09/01/09
72191 | Carolina Glove Co. (Wkrs) | Wilkesboro, NC | 09/02/09 | 08/24/09
72192 | Delphi Packard Mississippi Operations (Comp) | Brookhaven, MS | 09/02/09 | 08/27/09
72193 | Coherent, Inc (Comp) | Santa Clara, CA | 09/02/09 | 09/01/09
72194 | Pendleton Woolen Mills (Union) | Washougal, WA | 09/02/09 | 08/24/09
72195 | Experian (Wkrs) | Costa Mesa, CA | 09/02/09 | 09/01/09
72196 | Wheeling LaBelle Nail Company (Union) | Wheeling, WV | 09/02/09 | 09/01/09
72197 | Manpower Inc. (Wkrs) | Harrisburg, PA | 09/02/09 | 08/30/09
72198 | Paulstra CRC (Union) | Grand Rapids, MI | 09/02/09 | 09/01/09
72199 | Littelfuse LP (Comp) | Irving, TX | 09/02/09 | 09/01/09
72200 | VP Buildings (Wkrs) | Kernersville, NC | 09/02/09 | 08/20/09
72201 | Metaldyne (Auth) | Whitsett, NC | 09/02/09 | 09/01/09
72202 | Ideal Clamp Products, Inc. (Comp) | St. Augustine, FL | 09/02/09 | 08/28/09
72203 | Georgino Industrial Supply Inc. (Wkrs) | Penfield, PA | 09/02/09 | 09/01/09
72204 | Ayrshire Electronics (State) | Williamsburg, KY | 09/03/09 | 08/25/09
72205 | Charles Conkle Motor Company, Inc. (Wkrs) | Kokomo, IN | 09/03/09 | 08/31/09
72206 | Engineering Design and Sales, Inc. (EDS) (Comp) | Danville, VA | 09/03/09 | 09/02/09
72207 | General Electric Ohio Lamp Plant (IUECWA) | Warren, OH | 09/03/09 | 08/15/09
72208 | General Motors Moraine Assembly (Wkrs) | Moraine, OH | 09/03/09 | 09/02/09
72209 | JD Norman Industries, Inc. (Wkrs) | Addison, IL | 09/03/09 | 08/31/09
72210 | Mitchell Gold-Bob Williams (Wkrs) | Taylorsville, NC | 09/03/09 | 09/02/09
72211 | Unisia Steering Systems, Inc. (Comp) | Oakwood, GA | 09/03/09 | 09/02/09
72212 | General Motors (Wkrs) | Bowling Green, KY | 09/03/09 | 08/31/09
72213 | Yale Lift-Tech Division of Columbus Mckinnon Corp (Comp) | Muskegan, MI | 09/04/09 | 09/03/09
72214 | RIB Lake Plywood, Inc (Wkrs) | Rib Lake, WI | 09/04/09 | 09/04/09
72215 | Kmart Store #4422 (Wkrs) | South Point, OH | 09/04/09 | 08/27/09
72216 | Gwynn Lumber & Reload Inc. (Comp) | Eureka, MT | 09/04/09 | 09/02/09
72217 | SAES Getters America, Inc. (Comp) | Cleveland, OH | 09/04/09 | 09/02/09
72218 | SOMA Networks (Wkrs) | San Francisco, CA | 09/04/09 | 08/31/09
72219 | USF Holland (State) | Jackson, MI | 09/04/09 | 09/03/09
72220 | Eco Lab (Wkrs) | Hebron, OH | 09/04/09 | 08/26/09
72221 | AEES Platinum Equity (Comp) | San Antonio, TX | 09/04/09 | 08/24/09
72222 | Y.R.C. (State) | Richfield, OH | 09/04/09 | 09/03/09
72223 | Axle Tech International (Wkrs) | Oshkosh, WI | 09/04/09 | 08/31/09
72224 | Akzo Nobel Inc. (Wkrs) | High Point, NC | 09/04/09 | 08/14/09
72225 | Tube City, IMS (State) | Cuyahoga Heights, OH | 09/04/09 | 09/03/09

[FR Doc. E9-23913 Filed 10-2-09; 8:45 am]

BILLING CODE 4510-FN-P